FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than March 22, 2022.

A. Federal Reserve Bank of St. Louis (Holly A. Rieser, Manager) P.O. Box 442, St. Louis, Missouri 63166-2034. Comments can also be sent electronically to Comments.applications@stls.frb.org:

1. Kerry Dale Cundiff, Connie Sue Cundiff, Green River Building Supply, Danny Jeffries, Barbara Ann Rousey Jeffries Jennifer Lynnelle Rousey, Robert Taylor Rousey, the Robert Rousey Farm Trust and the Napier Cemetery Trust, Robert Barry Rousey, individually, and as trustee to both trusts, all of Liberty, Kentucky; to retain voting shares of Casey County Bancorp, Inc., and thereby indirectly retain voting shares of Casey County Bank, Inc., both of Liberty, Kentucky.

B. Federal Reserve Bank of Kansas City (Jeffrey Imgarten, Assistant Vice President) 1 Memorial Drive, Kansas City, Missouri 64198-0001:

1. David Tribble, as general partner of Tribble Family Partners, L.P., both of Unionville, Missouri; a member of the Tribble Family Group, a group acting in concert, to retain voting shares of Northern Missouri Bancshares, Inc., and thereby indirectly retain voting shares of Farmers Bank of Northern Missouri, both of Unionville, Missouri; Exchange Bank of Missouri, Fayette, Missouri; and Concordia Bank, Concordia, Missouri. David Tribble was previously approved by the Federal Reserve as a member of the Tribble Family Group.

2. The L. Dale Sprague Irrevocable Family Trust Agreement under agreement dated December 31, 2020, M. Janice Sprague, as trustee, and the M. Janice Sprague Irrevocable Family Trust Agreement under agreement dated December 31, 2020, L. Dale Sprague, as trustee, all of Blue Mound, Kansas; and Lonnie D. Sprague, Kincaid, Kansas; to become members of the Sprague Family Group, a group acting in concert, to retain voting shares of Dale Sprague Enterprise, Inc., and thereby indirectly retain voting shares of The Farmers State Bank of Blue Mound, both of Blue Mound, Kansas. L. Dale Sprague was previously approved by the Federal Reserve as a member of the Sprague Family Group.

C. Federal Reserve Bank of San Francisco (Sebastian Astrada, Director, Applications) 101 Market Street, San Francisco, California 94105-1579:

1. Joseph E. Matranga, Jr., Rancho Santa Fe, California, and Nathan Rogge, La Jolla, California; to acquire additional voting shares of Friendly Hills Bancorp, and thereby indirectly acquire voting shares of Friendly Hills Bank, both of Whittier, California.

Board of Governors of the Federal Reserve System, March 2, 2022.
Michele Taylor Fennell,
Deputy Associate Secretary of the Board.

[FR Doc. 2022-04767 Filed 3-4-22; 8:45 am]

BILLING CODE P